ELECTION ASSISTANCE COMMISSION

Sunshine Act Meetings

AGENCY: Election Assistance Commission.

ACTION: Sunshine Act Notice; Notice of public meeting agenda.

SUMMARY: Public Meeting: U.S. Election Assistance Commission Local Leadership Council 2024 Annual Meeting.

DATES: Monday, January 8, 1:00 p.m.-5:00 p.m. Eastern and Tuesday, January 9, 9:00 a.m.-5:00 p.m. Eastern.

ADDRESSES: DoubleTree by Hilton Hotel Crystal City, 300 Army Navy Drive, Arlington, Virginia, 22202.

FOR FURTHER INFORMATION CONTACT: Kristen Muthig, Telephone: (202) 897-9285, Email: kmuthig@eac.gov.

SUPPLEMENTARY INFORMATION:

Purpose: In accordance with the Government in the Sunshine Act (Sunshine Act), Public Law 94-409, as amended (5 U.S.C. 552b), the U.S. Election Assistance Commission (EAC) will conduct an annual meeting of the EAC Local Leadership Council to conduct regular business and discuss EAC updates and upcoming programs.

Agenda: The U.S. Election Assistance Commission (EAC) Local Leadership Council will hold its 2024 Annual Meeting primarily to conduct regular business, and discuss EAC updates and upcoming programs, such as election technology and preparing for the 2024 elections. The meeting will include moderated discussion on topics such as communications, continuity of operations planning, and presentations from federal election partners. Throughout the meeting, there will be opportunities for members to ask questions.

Background: The Local Leadership Council was established in June 2021 under agency authority pursuant to and in accordance with the provisions of the Federal Advisory Committee Act, as amended (5 U.S.C. App. 2). The Advisory Committee is governed by the Federal Advisory Committee Act, which sets forth standards for the formation and use of advisory committees. The Advisory Committee advises the EAC on how best to fulfill the EAC's statutory duties set forth in 52 U.S.C. 20922 as well as such other matters as the EAC determines. It shall provide a relevant and comprehensive source of expert, unbiased analysis and recommendations to the EAC on local election administration topics.

The Local Leadership Council consists of 100 members. The Election Assistance Commission appoints two members from each state after soliciting nominations from each state's election official professional association. At the time of submission, the Local Leadership Council has 89 appointed members. Upon appointment, Advisory Committee members must be serving or have previously served in a leadership role in a state election official professional association.

The full agenda will be posted in advance on the EAC website: https://www.eac.gov.

Status: This meeting will be open to the public.

Camden Kelliher,
Deputy General Counsel, U.S. Election Assistance Commission.

[FR Doc. 2023-27755 Filed 12-13-23; 4:15 pm]

BILLING CODE 4810-71-P